ENVIRONMENTAL PROTECTION AGENCY

40 CFR Part 55

[EPA-R03-OAR-2009-0238; FRL-8896-1]

Outer Continental Shelf Air Regulations Consistency Update for Delaware

AGENCY: Environmental Protection Agency (EPA).

ACTION: Proposed rule-consistency update.

SUMMARY: EPA is proposing to update a portion of the Outer Continental Shelf (OCS) Air Regulations. Requirements applying to OCS sources located within 25 miles of a State's seaward boundary must be updated periodically to maintain continuity and ensure consistency with the regulations of the corresponding onshore area (COA), as mandated by section 328(a)(1) of the Clean Air Act (CAA). The specific portion of the regulations that are being updated pertains to the requirements for OCS sources in the State of Delaware (Delaware). The intended effect of approving the OCS regulations for Delaware is to regulate air emissions from OCS sources in accordance with the requirements onshore. The change to the existing requirements discussed below is proposed to be incorporated by reference into the Code of Federal Regulations and is listed in the appendix to the OCS air regulations.

DATES: Written comments must be received on or before May 29, 2009.

ADDRESSES: Submit your comments, identified by Docket ID Number EPA-R03-OAR-2009-0238 by one of the following methods:

1. http://www.regulations.gov: Follow the on-line instructions for submitting comments.

2. E-mail: caprio.amy@epa.gov.

3. Mail: EPA-R03-OAR-2009-0238, Amy Caprio, Permits and Technical Assessment Branch, Mailcode 3AP11, U.S. Environmental Protection Agency, Region III, 1650 Arch Street, Philadelphia, Pennsylvania 19103.

4. Hand Delivery or Courier: At the previously-listed EPA Region III address. Such deliveries are only accepted during the Docket's normal hours of operation, and special arrangements should be made for deliveries of boxed information.

Instructions: Direct your comments to Docket ID No. EPA-R03-OAR-2009-0238. EPA's policy is that all comments received will be included in the public docket without change and may be made available online at http://www.regulations.gov, including any personal information provided, unless the comment includes information claimed to be Confidential Business Information (CBI) or other information whose disclosure is restricted by statute. Do not submit through http://www.regulations.gov, or e-mail, information that you consider to be CBI or otherwise protected. The http://www.regulations.gov Web site is an “anonymous access” system, which means EPA will not know your identity or contact information unless you provide it in the body of your comment. If you send an e-mail comment directly to EPA without going through http://www.regulations.gov your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the electronic docket are listed in the http://www.regulations.gov index. Although listed in the index, some information is not publicly available, i.e., CBI or other information whose disclosure is restricted by statute. Certain other material, such as copyrighted material, is not placed on the Internet and will be publicly available only in hard copy form. Publicly available docket materials are available either electronically in http://www.regulations.gov or in hard copy at Air Protection Division, U.S. Environmental Protection Agency, Region III, 1650 Arch Street, Philadelphia, Pennsylvania 19103.

FOR FURTHER INFORMATION CONTACT: Amy Caprio, (215) 814-2156 or by e-mail at caprio.amy@epa.gov.

SUPPLEMENTARY INFORMATION: Throughout this document whenever “we,” “us,” or “our” is used, we mean EPA.

Table of Contents

I. Background and Purpose

II. EPA's Evaluation

III. Proposed Action

IV. Statutory and Executive Order Reviews

I. Background and Purpose

On September 4, 1992, EPA promulgated 40 CFR part 55,¹ which established requirements to control air pollution from OCS sources, in order to attain and maintain Federal and State ambient air quality standards and to comply with the provisions of part C of title I of the CAA. Part 55 applies to all OCS sources offshore of the States, except those located in the Gulf of Mexico west of 87.5 degrees longitude. Section 328 of the CAA requires that for such sources located within 25 miles of a State's seaward boundary, the requirements shall be the same as would be applicable if the sources were located in the COA. Because the OCS regulations are based on those onshore regulations, and onshore requirements may from time-to-time change, section 328(a)(1) requires that EPA update the OCS requirements as necessary to maintain consistency with onshore regulations.

¹ The Notice of Proposed Rulemaking, December 5, 1991 (56 FR 63774), and the preamble to the final rule promulgated September 4, 1992 (57 FR 40792) provide further background and information on the OCS regulations.

Pursuant to 40 CFR 55.12(b), where an OCS activity is occurring within 25 miles of a State seaward boundary, consistency reviews will occur: (1) At least annually; (2) upon receipt of a Notice of Intent under § 55.4; or (3) when a State or local agency submits a rule to EPA to be considered for incorporation by reference in part 55. This proposed action is being taken to update 40 CFR part 55 as necessary to maintain consistency with the regulations of Delaware, in order to attain and maintain Federal and State ambient standards and comply with part C of title I of the CAA. 40 CFR 55.12(a). Public comments received in writing within 30 days of publication of this document will be considered by EPA before publishing a final rule.

Section 328(a) of the CAA requires that EPA establish requirements to control air pollution from OCS sources located within 25 miles of a State's seaward boundary that are the same as would be applicable if the source were located in the corresponding onshore area. To comply with this statutory mandate, EPA must incorporate applicable onshore rules into part 55 as they exist onshore and as they relate to protection of ambient standards. This prevents EPA from making substantive changes to the requirements it incorporates. As a result, EPA may be incorporating rules into part 55 that do not conform to all of EPA's State implementation plan (SIP) guidance or certain requirements of the CAA. Inclusion in the OCS rule does not imply that a rule meets the requirements of the CAA for SIP approval, nor does it imply that the rule will be approved by EPA for inclusion in the SIP.

II. EPA's Evaluation

In the process of revising or updating 40 CFR part 55, EPA first conducted a review of Delaware's rules for inclusion into part 55 to ensure that those State rules: (1) Are rationally related to the attainment or maintenance of Federal or State ambient air quality standards or part C of title I of the CAA; (2) are not designed or used for the purpose of preventing exploration and development of the OCS; and (3) are applicable to OCS sources. 40 CFR 55.1. EPA has also evaluated the rules to ensure they are not arbitrary or capricious. 40 CFR 55.12(e). In addition, EPA has excluded administrative or procedural rules,² and requirements that regulate toxics which are not rationally related to the attainment and maintenance of Federal and State ambient air quality standards. EPA is soliciting public comments on the issues discussed in this document or on other relevant matters. These comments will be considered before taking final action. Interested parties may participate in the Federal rulemaking procedure by submitting written comments to the EPA Region III Office listed in the ADDRESSES section of this Federal Register.

² Each COA which has been delegated the authority to implement and enforce part 55, will use its administrative and procedural rules as onshore. However, in those instances where EPA has not delegated authority to implement and enforce part 55, as in Delaware, EPA will use its own administrative and procedural requirements to implement the substantive requirements. See 40 CFR 55.14(c)(4).

III. Proposed Action

EPA is proposing to incorporate the rules applicable to sources for which the State of Delaware will be the COA. The rules that EPA proposes to incorporate are applicable provisions of Title 7 of the Delaware Administrative Code, specifically, Air Quality Management Section 1100. The rules EPA proposes to incorporate are listed in detail at the end of the document.

IV. Statutory and Executive Order Reviews

A. Executive Order 12866: Regulatory Planning and Review

Under Executive Order 12866 (58 FR 51735 (October 4, 1993)), the Agency must determine whether the regulatory action is “significant” and therefore subject to Office of Management and Budget (OMB) review and the requirements of the Executive Order. The Order defines “significant regulatory action” as one that is likely to result in a rule that may:

(1) Have an annual effect on the economy of $100 million or more or adversely affect in a material way the economy, a sector of the economy, productivity, competition, jobs, the environment, public health or safety, or State, local, or tribal governments or communities;

(2) Create a serious inconsistency or otherwise interfere with an action taken or planned by another agency;

(3) Materially alter the budgetary impact of entitlements, grants, user fees, or loan programs or the rights and obligations of recipients thereof; or

(4) Raise novel legal or policy issues arising out of legal mandates, the President's priorities, or the principles set forth in the Executive Order.

This action is not a “significant regulatory action” under the terms of Executive Order 12866 and is therefore not subject to OMB Review. These rules implement requirements specifically and explicitly set forth by the Congress in section 328 of the Clean Air Act, without the exercise of any policy discretion by EPA. These OCS rules already apply in the COA, and EPA has no evidence to suggest that these OCS rules have created an adverse material effect. As required by section 328 of the Clean Air Act, this action simply updates the existing OCS requirements to make them consistent with rules in the COA.

B. Paperwork Reduction Act

The OMB has approved the information collection requirements contained in 40 CFR part 55, and by extension this update to the rules, under the provisions of the Paperwork Reduction Act, 44 U.S.C. 3501 et seq. and has assigned OMB control number 2060-0249. Notice of OMB's approval of EPA Information Collection Request (ICR) No. 1601.07 was published in the Federal Register on February 17, 2009 (74 FR 7432). The approval expires January 31, 2012. As EPA previously indicated (73 FR 66037 (November 6, 2008)), the annual public reporting and recordkeeping burden for collection of information under 40 CFR part 55 is estimated to average 112 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

An agency may not conduct or sponsor, and a person is not required to respond to, a collection of information unless it displays a currently valid OMB control number. The OMB control numbers for EPA's regulations in 40 CFR are listed in 40 CFR part 9 and are identified on the form and/or instrument, if applicable. In addition, EPA is amending the table in 40 CFR part 9 of currently approved OMB control numbers for various regulations to list the regulatory citations for the information requirements contained in this final rule.

C. Regulatory Flexibility Act

The Regulatory Flexibility Act (RFA) generally requires an agency to conduct a regulatory flexibility analysis of any rule subject to notice and comment rulemaking requirements unless the agency certifies that the rule will not have a significant economic impact on a substantial number of small entities. Small entities include small businesses, small not-for-profit enterprises, and small governmental jurisdictions.

These rules will not have a significant economic impact on a substantial number of small entities. These rules implement requirements specifically and explicitly set forth by the Congress in section 328 of the Clean Air Act, without the exercise of any policy discretion by EPA. These OCS rules already apply in the COA, and EPA has no evidence to suggest that these OCS rules have had a significant economic impact on a substantial number of small entities. As required by section 328 of the Clean Air Act, this action simply updates the existing OCS requirements to make them consistent with rules in the COA. Therefore, this action will not have a significant economic impact on a substantial number of small entities.

D. Unfunded Mandates Reform Act

Title II of the Unfunded Mandates Reform Act of 1995 (UMRA), Public Law 104-4, establishes requirements for Federal agencies to assess the effects of their regulatory actions on State, local, and tribal governments and the private sector. Under section 202 of the UMRA, EPA generally must prepare a written statement, including a cost-benefit analysis, for proposed and final rules with “Federal mandates” that may result in expenditures to State, local, and tribal governments, in the aggregate, or to the private sector, of $100 million of more in any one year.

Before promulgating an EPA rule for which a written statement is needed, section 205 of the UMRA generally requires EPA to identify and consider a reasonable number of regulatory alternatives and adopt the least costly, most cost-effective or least burdensome alternative that achieves the objectives of the rule. The provisions of section 205 do not apply when they are inconsistent with applicable law. Moreover, section 205 allows EPA to adopt an alternative other than the least costly, most cost-effective or least burdensome alternative if the Administrator publishes with the final rule an explanation why that alternative was not adopted.

Before EPA establishes any regulatory requirements that may significantly or uniquely affect small governments, including tribal governments, it must have developed under section 203 of the UMRA a small government agency plan. The plan must provide for notifying potentially affected small governments, enabling officials of affected small governments to have meaningful and timely input in the development of EPA regulatory proposals with significant Federal intergovernmental mandates, and informing, educating, and advising small governments on compliance with the regulatory requirements.

This document contains no Federal mandates (under the regulatory provisions of Title II of the UMRA) for State, local, or tribal governments or the private sector that may result in expenditures of $100 million or more for State, local, or tribal governments, in the aggregate, or to the private sector in any one year. This action would implement requirements specifically and explicitly set forth by the Congress in section 328 of the Clean Air Act without the exercise of any policy discretion by EPA. The OCS rules already apply in the COA, and EPA has no evidence to suggest that applying them in the OCS would result in expenditures to State, local, and tribal governments, in the aggregate, or to the private sector, of $100 million or more in any one year. As required by section 328 of the Clean Air Act, this action simply updates the existing OCS requirements to make them consistent with rules in the COA.

E. Executive Order 13132, Federalism

Executive Order 13132, entitled “Federalism” (64 FR 43255 (August 10, 1999)), requires EPA to develop an accountable process to ensure “meaningful and timely input by State and local officials in the development of regulatory policies that have federalism implications.” “Policies that have federalism implications” is defined in the Executive Order to include regulations that have “substantial direct effects on the States, on the relationship between the national government and the States, or on the distribution of power and responsibilities among the various levels of government.”

This proposed rule does not have federalism implications. It will not have substantial direct effects on the States, on the relationship between the national government and the States, or on the distribution of power and responsibilities among the various levels of government, as specified in Executive Order 13132. These rules implement requirements specifically and explicitly set forth by the Congress in section 328 of the Clean Air Act, without the exercise of any policy discretion by EPA. As required by section 328 of the Clean Air Act, this rule simply updates the existing OCS rules to make them consistent with current COA requirements. These rules do not amend the existing provisions within 40 CFR part 55 enabling delegation of OCS regulations to a COA, and this rule does not require the COA to implement the OCS rules. Thus, Executive Order 13132 does not apply to this rule.

In the spirit of Executive Order 13132, and consistent with EPA policy to promote communications between EPA and State and local governments, EPA specifically solicits comments on this proposed rule from State and local officials.

F. Executive Order 13175, Coordination With Indian Tribal Governments

Executive Order 13175, entitled “Consultation and Coordination with Indian Tribal Governments” (65 FR 67249, November 9, 2000), requires EPA to develop an accountable process to ensure “meaningful and timely input by tribal officials in the development of regulatory policies that have tribal implications.” This rule does not have a substantial direct effect on one or more Indian tribes, on the relationship between the Federal Government and Indian tribes or on the distribution of power and responsibilities between the Federal Government and Indian tribes and thus does not have “tribal implications,” within the meaning of Executive Order 13175. This rule implements requirements specifically and explicitly set forth by the Congress in section 328 of the Clean Air Act, without the exercise of any policy discretion by EPA. As required by section 328 of the Clean Air Act, this rule simply updates the existing OCS rules to make them consistent with current COA requirements. In addition, this rule does not impose substantial direct compliance costs tribal governments, nor preempt tribal law. Consultation with Indian tribes is therefore not required under Executive Order 13175. Nonetheless, in the spirit of Executive Order 13175 and consistent with EPA policy to promote communications between EPA and tribes, EPA specifically solicits comments on this proposed rule from tribal officials.

G. Executive Order 13045, Protection of Children From Environmental Health Risks and Safety Risks

Executive Order 13045: “Protection of Children from Environmental Health Risks and Safety Risks” (62 FR 19885 (April 23, 1997)), applies to any rule that: (1) is determined to be “economically significant” as defined under Executive Order 12866, and (2) concerns an environmental health or safety risk that EPA has reason to believe may have a disproportionate effect on children. If the regulatory action meets both criteria, the Agency must evaluate the environmental health or safety effects of the planned rule on children, and explain why the planned regulation is preferable to other potentially effective and reasonably feasible alternatives considered by the Agency.

This proposed rule is not subject to Executive Order 13045 because it is not economically significant as defined in Executive Order 12866. In addition, the Agency does not have reason to believe the environmental health or safety risks addressed by this action present a disproportional risk to children.

H. Executive Order 13211, Actions That Significantly Affect Energy Supply, Distribution, or Use

This proposed rule is not subject to Executive Order 13211, “Actions Concerning Regulations That Significantly Affect Energy Supply, Distribution, or Use” (66 FR 28355, (May 22, 2001)) because it is not a significant regulatory action under Executive Order 12866.

I. National Technology Transfer and Advancement Act

Section 12(d) of the National Technology Transfer and Advancement Act of 1995 (NTTAA), Public Law 104-113, section 12(d) (15 U.S.C. 272 note) directs EPA to use voluntary consensus standards in its regulatory activities unless to do so would be inconsistent with applicable laws or otherwise impractical. Voluntary consensus standards are technical standards (e.g., materials specifications, test methods, sampling procedures, and business practices) that are developed or adopted by voluntary consensus standards bodies. The NTTAA directs EPA to provide Congress, through OMB, explanations when the Agency decided not to use available and applicable voluntary consensus standards.

As discussed above, these rules implement requirements specifically and explicitly set forth by the Congress in section 328 of the Clean Air Act, without the exercise of any policy discretion by EPA. As required by section 328 of the Clean Air Act, this rule simply updates the existing OCS rules to make them consistent with current COA requirements. In the absence of a prior existing requirement for the State to use voluntary consensus standards and in light of the fact that EPA is required to make the OCS rules consistent with current COA requirements, it would be inconsistent with applicable law for EPA to use voluntary consensus standards in this action. Therefore, EPA is not considering the use of any voluntary consensus standards. EPA welcomes comments on this aspect of the proposed rulemaking and, specifically, invites the public to identify potentially-applicable voluntary consensus standards and to explain why such standards should be used in this regulation.

J. Executive Order 12898: Federal Actions to Address Environmental Justice in Minority Populations and Low-Income Populations.

Executive Order 12898 (59 FR 7629 (Feb. 16, 1994)) establishes Federal executive policy on environmental justice. Its main provision directs Federal agencies, to the greatest extent practicable and permitted by law, to make environmental justice part of their mission by identifying and addressing, as appropriate, disproportionately high and adverse human health or environmental effects of their programs, policies, and activities on minority populations and low-income populations in the United States. EPA lacks the discretionary authority to address environmental justice in this proposed action. This rule implements requirements specifically and explicitly set forth by the Congress in section 328 of the Clean Air Act, without the exercise of any policy discretion by EPA. As required by section 328 of the Clean Air Act, this rule simply updates the existing OCS rules to make them consistent with current COA requirements.

Although EPA lacks authority to modify today's regulatory decision on the basis of environmental justice considerations, EPA nevertheless explored this issue and found the following. This action, namely, updating the OCS rules to make them consistent with current COA requirements, will not have disproportionately high and adverse human health or environmental effects on minority or low-income populations because it increases the level of environmental protection for all affected populations without having any disproportionately high and adverse human health or environmental effects on any population, including any minority or low-income population. Environmental justice considerations may be appropriate to consider in the context of a specific OCS permit application.

List of Subjects in 40 CFR Part 55

Environmental protection, Administrative practice and procedure, Air pollution control, Continental Shelf, Incorporation by reference, Intergovernmental relations, Nitrogen dioxide, Ozone, Particulate matter, Reporting and recordkeeping requirements, Sulfur oxides.

Dated: April 15, 2009.
William C. Early,
Acting Regional Administrator, Region III.

Title 40, chapter I of the Code of Federal Regulations, is proposed to be amended as follows:

PART 55—[AMENDED]

1. The authority citation for part 55 continues to read as follows:

Authority: Section 328 of the Act (42 U.S.C. 7401, et seq.) as amended by Public Law 101-549.

2. Section 55.14 is amended as follows:

a. By adding paragraph (d)(5),

b. By revising paragraph (e) introductory text, and

c. By adding paragraph (e)(5).

§ 55.14 Requirements that apply to OCS sources located within 25 miles of States' seaward boundaries, by State.

* * * * *

(d) * * *

(5) Delaware.

(i) 40 CFR part 52, subpart I.

(ii) [Reserved]

* * * * *

(e) State and local requirements. State and local requirements promulgated by EPA as applicable to OCS sources located within 25 miles of States' seaward boundaries have been compiled into separate documents organized by State and local areas of jurisdiction. These documents, set forth below, are incorporated by reference. This incorporation by reference was approved by the Director of the Federal Register Office in accordance with 5 U.S.C. 552(a) and 1 CFR part 51. Copies may be inspected at the National Archives and Records Administration (NARA). For information on the availability of this material at NARA, call 202-741-6030 or go to: http://www.archives.gov/federal_register/code_of_federal_regulations/ibr_locations.html. Copies of rules pertaining to particular States or local areas may be inspected or obtained from the EPA Air Docket (A-91-76), U.S. EPA, room M-1500, 401 M St., SW., Washington DC 20460 or the appropriate EPA regional offices: U.S. EPA, Region I (Massachusetts) One Congress Street, Boston, MA 02114-2023; U.S. EPA, Region III (Delaware) 1650 Arch Street, Philadelphia, PA 19103; U.S. EPA, Region 4 (Florida and North Carolina), 61 Forsyth Street, Atlanta, GA 30303; U.S. EPA, Region 9 (California), 75 Hawthorne Street, San Francisco, CA 94105; and U.S. EPA, Region 10 (Alaska), 1200 Sixth Avenue, Seattle, WA 98101, For an informational listing of the State and local requirements incorporated into this part, which are applicable to sources of air pollution located on the OCS, see appendix A to this part.

* * * * *

(5) Delaware.

(i) State requirements.

(A) State of Delaware Requirements Applicable to OCS Sources, December 19, 2008.

(B) [Reserved]

(ii) Local requirements.

(A) [Reserved]

* * * * *

3. Appendix A to part 55 is amended by adding an entry for Delaware in alphabetical order to read as follows:

Appendix A to Part 55—Listing of State and Local Requirements Incorporated by Reference Into Part 55, By State

* * * * *

Delaware

(a) State requirements.

(1) The following State of Delaware requirements are applicable to OCS Sources, December 19, 2008, State of Delaware—Department of Natural Resources and Environmental Control. The following sections of 7 DE Admin. Code 1100—Air Quality Management Section:

7 DE Admin. Code 1101: Definitions and Administrative Principals

Section 1.0: General Provisions (Effective 02/01/1981)

Section 2.0: Definitions (Effective 09/11/1999)

Section 3.0: Administrative Principles (02/01/1981)

Section 4.0: Abbreviations (Effective 02/01/1981)

7 DE Admin. Code 1102: Permits

Section 1.0: General Provisions (Effective 06/11/2006)

Section 2.0: Applicability (Effective 06/11/2006)

Section 3.0: Application/Registration Prepared by Interested Party (Effective 06/01/1997)

Section 4.0: Cancellation of Construction Permits (Effective 06/01/1997)

Section 5.0: Action on Applications (Effective 06/01/1997)

Section 6.0: Denial, Suspension or Revocation of Operating Permits (Effective 06/11/2006)

Section 7.0: Transfer of Permit/Registration Prohibited (Effective 06/01/1997)

Section 8.0: Availability of Permit/Registration (Effective 06/01/1997)

Section 9.0: Registration Submittal (Effective 06/01/1997)

Section 10.0: Source Category Permit Application (Effective 06/01/1997)

Section 11.0: Permit Application (Effective 06/11/2006)

Section 12.0: Public Participation (Effective 06/11/2006)

Section 13.0: Department Records (Effective 06/01/1997)

Section 1102: Appendix A (Effective 06/11/2006)

7 DE Admin. Code 1103: Ambient Air Quality Standards

Section 1.0: General Provisions (Effective 09/11/1999)

Section 2.0: General Restrictions (Effective 02/01/1981)

Section 3.0: Suspended Particulates (Effective 02/01/1981)

Section 4.0: Sulfur Dioxide (Effective 02/01/1981)

Section 5.0: Carbon Monoxide (Effective 02/01/1981)

Section 6.0: Ozone (Effective 09/11/1999)

Section 7.0: Hydrocarbons (Effective 02/01/1981)

Section 8.0: Nitrogen Dioxide (Effective 02/01/1981)

Section 9.0: Hydrogen Sulfide (Effective 02/01/1981)

Section 10.0: Lead (Effective 02/01/1981)

Section 11.0: PM10 and PM2.5 Particulates (Effective 2/11/2003)

7 DE Admin. Code 1104: Particulate Emissions from Fuel Burning Equipment

Section 1.0: General Provisions (Effective 02/01/1981)

Section 2.0: Emission Limits (Effective 02/01/1981)

7 DE Admin. Code 1105: Particulate Emissions from Industrial Process Operations

Section 1.0: General Provisions (Effective 02/01/1981)

Section 2.0: General Restrictions (Effective 02/01/1981)

Section 3.0: Restrictions on Hot Mix Asphalt Batching Operations (Effective 02/01/1981)

Section 4.0: Restrictions on Secondary Metal Operations (Effective 02/01/1981)

Section 5.0: Restrictions on Petroleum Refining Operations (Effective 02/01/1981)

Section 6.0: Restrictions on Prill Tower Operations (Effective 02/01/1981)

Section 7.0: Control of Potentially Hazardous Particulate Matter (Effective 02/01/1981)

7 DE Admin. Code 1106: Particulate Emissions From Construction and Materials Handling

Section 1.0: General Provisions (Effective 02/01/1981)

Section 2.0: Demolition (Effective 02/01/1981)

Section 3.0: Grading, Land Clearing, Excavation and Use of Non-Paved Roads (Effective 02/01/1981)

Section 4.0: Material Movement (Effective 02/01/1981)

Section 5.0: Sandblasting (Effective 02/01/1981)

Section 6.0: Material Storage (Effective 02/01/1981)

7 DE Admin. Code 1107: Emissions From Incineration of Noninfectious Waste

Section 1.0: General Provisions (Effective 10/13/1989)

Section 2.0: Restrictions (Effective 10/13/1989)

7 DE Admin. Code 1108: Sulfur Dioxide Emissions From Fuel Burning Equipment

Section 1.0: General Provisions (Effective 12/08/1983)

Section 2.0: Limit on Sulfur Content of Fuel (Effective 05/09/1985)

Section 3.0: Emission Control in Lieu of Sulfur Content Limits of 2.0 of This Regulation (Effective 05/09/1985)

7 DE Admin. Code 1109: Emissions of Sulfur Compounds From Industrial Operations

Section 1.0: General Provisions (Effective 05/09/1985)

Section 2.0: Restrictions on Sulfuric Acid Manufacturing Operations (Effective 02/01/1981)

Section 3.0: Restriction on Sulfuric Recovery Operations (Effective 02/01/1981)

Section 4.0: Stack Height Requirements (Effective 02/01/1981)

7 DE Admin. Code 1110: Emissions of Sulfur Compounds From Industrial Operations

Section 1.0: Requirements for Existing Sources of Sulfur Dioxide (Effective 01/18/1981)

Section 2.0: Requirements for New Sources of Sulfur Dioxide (Effective 02/01/1981)

7 DE Admin. Code 1111: Carbon Monoxide Emissions From Industrial Process Operations New Castle County

Section 1.0: General Provisions (Effective 02/01/1981)

Section 2.0: Restrictions on Petroleum Refining Operations (Effective 02/01/1981)

7 DE Admin. Code 1112: Control of Nitrogen Oxide Emissions

Section 1.0: Applicability (Effective 11/24/1993)

Section 2.0: Definitions (Effective 11/24/1993)

Section 3.0: Standards (Effective 11/24/1993)

Section 4.0: Exemptions (Effective 11/24/1993)

Section 5.0: Alternative and Equivalent RACT Determinations (Effective 11/24/1993)

Section 6.0: RACT Proposals (Effective 11/24/1993)

Section 7.0: Compliance Certification, Recordkeeping, and Reporting Requirements (Effective 11/24/1993)

7 DE Admin. Code 1113: Open Burning

Section 1.0: Purpose (Effective 04/11/2007)

Section 2.0: Applicability (Effective 04/11/2007)

Section 3.0: Definitions (Effective 04/11/2007)

Section 4.0: Prohibitions and Related Provisions (Effective 04/11/2007)

Section 5.0: Season and Time Restrictions (Effective 04/11/2007)

Section 6.0: Allowable Open Burning (Effective 04/11/2007)

Section 7.0: Exemptions (Effective 04/11/2007)

7 DE Admin. Code 1114: Visible Emissions

Section 1.0: General Provisions (Effective 07/17/1984)

Section 2.0: Requirements (Effective 07/17/1984)

Section 3.0: Alternate Opacity Requirements (Effective 07/17/1984)

Section 4.0: Compliance With Opacity Standards (Effective 07/17/1984)

7 DE Admin. Code 1115: Air Pollution Alert and Emergency Plan

Section 1.0: General Provisions (Effective 07/17/1984)

Section 2.0: Stages and Criteria (Effective 03/29/1988)

Section 3.0: Required Actions (Effective 02/01/1981)

Section 4.0: Standby Plans (Effective 02/01/1981)

7 DE Admin. Code 1116: Sources Having Interstate Air Pollution Potential

Section 1.0: General Provisions (Effective 02/01/1981)

Section 2.0: Limitations (Effective 02/01/1981)

Section 3.0: Requirements (Effective 02/01/1981)

7 DE Admin. Code 1117: Source Monitoring, Record Keeping And Reporting

Section 1.0: Definitions and Administrative Principals (Effective 01/11/1993)

Section 2.0: Sampling and Monitoring (Effective 07/17/1984)

Section 3.0: Minimum Emissions Monitoring Requirements For Existing Sources (Effective 07/17/1984)

Section 4.0: Performance Specifications (Effective 07/17/1984)

Section 5.0: Minimum Data Requirements (Effective 07/17/1984)

Section 6.0: Data Reduction (Effective 07/17/1984)

Section 7.0: Emission Statement (Effective 01/11/1993)

7 DE Admin. Code 1120: New Source Performance Standards

Section 1.0: General Provisions (Effective 12/07/1988)

Section 2.0: Standards of Performance for Fuel Burning Equipment (Effective 04/18/1983)

Section 3.0: Standards of Performance for Nitric Acid Plants (Effective 04/18/1983)

Section 5.0: Standards of Performance for Asphalt Concrete Plants (Effective 04/18/1983)

Section 6.0: Standards of Performance for Incinerators (Effective 04/18/1983)

Section 7.0: Standards of Performance for Sewage Treatment Plants (Effective 04/18/1983)

Section 8.0: Standards of Performance for Sulfuric Acid Plants (Effective 04/18/1983)

Section 9.0: Standards of Performance for Electric Utility Steam Generating Units for Which Construction is Commenced After September 18, 1978 (Effective 04/18/1983)

Section 10.0: Standards of Performance for Stationary Gas Turbines (Effective 11/27/1985)

Section 11.0: Standards of Performance for Petroleum Refineries (Effective 11/27/1985)

Section 12.0: Standards of Performance for Steel Plants: Electric Arc Furnaces (Effective 11/27/1985)

Section 20.0: Standards of Performance for Bulk Gasoline Terminals (Effective 11/27/1985)

Section 22.0: Standards of Performance for Equipment Leaks at Petroleum Refineries (Effective 11/27/1985)

Section 27.0: Standards of Performance for Volatile Organic Liquid Storage Vessels (Including Petroleum Liquid Storage Vessels) for Which Construction, Reconstruction, or Modification Commenced after July 23, 1984 (Effective 12/07/1988)

Section 29.0: Standards of Performance for Hospital/Medical/Infectious Waste Incinerators (Effective 09/11/1998)

7 DE Admin. Code 1122: Restriction on Quality of Fuel in Fuel Burning Equipment

Section 1.0: Prohibition of Waste Oil (Effective 11/27/1985)

7 DE Admin. Code 1124: Control of Volatile Organic Compounds

Section 1.0: General Provisions (Effective 01/11/1993)

Section 2.0: Definitions (Effective 01/11/2002)

Section 3.0: Applicability (Effective 01/11/1993)

Section 4.0: Compliance, Certification, Recordkeeping, and Reporting Requirements for Coating Sources (Effective 11/29/1994)

Section 5.0: Compliance, Certification, Recordkeeping, and Reporting Requirements for Non-Coating Sources (Effective 01/11/1993)

Section 6.0: General Recordkeeping (Effective 01/11/1993)

Section 7.0: Circumvention (Effective 01/11/1993)

Section 8.0: Handling, Storage, and Disposal of Volatile Organic Compounds (VOCs) (Effective 11/29/1994)

Section 9.0: Compliance, Permits, Enforceability (Effective 01/11/1993)

Section 10.0: Aerospace Coatings (Effective 08/11/2002)

Section 11.0: Mobile Equipment Repair and Refinishing (Effective 11/11/2001)

Section 12.0: Surface Coating of Plastic Parts (Effective 11/29/1994)

Section 13.0: Automobile and Light-Duty Truck Coating Operations (Effective 01/11/1993)

Section 14.0: Can Coating (Effective 01/11/1993)

Section 15.0: Coil Coating (Effective 01/11/1993)

Section 16.0: Paper Coating (Effective 01/11/1993)

Section 17.0: Fabric Coating (Effective 01/11/1993)

Section 18.0: Vinyl Coating (Effective 01/11/1993)

Section 19.0: Coating of Metal Furniture (01/11/1993)

Section 20.0: Coating of Large Appliances (01/11/1993)

Section 21.0: Coating of Magnet Wire (01/11/1993)

Section 22.0: Coating of Miscellaneous Parts (Effective 01/11/1993)

Section 23.0: Coating of Flat Wood Paneling (Effective 01/11/1993)

Section 24.0: Bulk Gasoline Plants (Effective 01/11/1993)

Section 25.0: Bulk Gasoline Terminals (Effective 11/29/1994)

Section 26.0: Gasoline Dispensing Facility Stage I Vapor Recovery (Effective 01/11/2002)

Section 27.0: Gasoline Tank Trucks (Effective 01/11/1993)

Section 28.0: Petroleum Refinery Sources (Effective 01/11/1993)

Section 29.0: Leaks from Petroleum Refinery Equipment (Effective 11/29/1994)

Section 30.0: Petroleum Liquid Storage in External Floating Roof Tanks (Effective 11/29/1994)

Section 31.0: Petroleum Liquid Storage in Fixed Roof Tanks (Effective 11/29/1994)

Section 32.0: Leaks from Natural Gas/Gasoline Processing Equipment (11/29/1994)

Section 33.0: Solvent Cleaning and Drying (Effective 11/11/2001)

Section 34.0: Cutback and Emulsified Asphalt (Effective 01/11/1993)

Section 35.0: Manufacture of Synthesized Pharmaceutical Products (Effective 11/29/1994)

Section 36.0: Stage II Vapor Recovery (Effective 01/11/2002)

Section 37.0: Graphic Arts Systems (Effective 11/29/1994)

Section 38.0: Petroleum Solvent Dry Cleaners (Effective 01/11/1993)

Section 40.0: Leaks from Synthetic Organic Chemical, Polymer, and Resin Manufacturing Equipment (Effective 01/11/1993)

Section 41.0: Manufacture of High-Density Polyethylene, Polypropylene, and Polystyrene Resins (Effective 01/11/1993)

Section 42.0: Air Oxidation Processes in the Synthetic Organic Chemical Manufacturing Industry (Effective 01/11/1993)

Section 43.0: Bulk Gasoline Marine Tank Vessel Loading Facilities (Effective 08/08/1994)

Section 44.0: Batch Processing Operations (Effective 11/29/1994)

Section 45.0: Industrial Cleaning Solvents (Effective 11/29/1994)

Section 46.0: Crude Oil Lightering Operations (Effective 05/11/2007)

Section 47.0: Offset Lithographic Printing (Effective 11/29/1994)

Section 48.0: Reactor Processes and Distillation Operations in the Synthetic Organic Chemical Manufacturing Industry (Effective 11/29/1994)

Section 49.0: Control of Volatile Organic Compound Emissions from Volatile Organic Liquid Storage Vessels (Effective 11/29/1994)

Section 50.0: Other Facilities that Emit Volatile Organic Compounds (VOCs) (Effective 11/29/1994)

7 DE Admin. Code 1124: Control of Organic Compound Emissions

Appendix A General Provisions: Test Methods and Compliance Procedures (Effective 11/29/1994)

Appendix B: Determining the Volatile Organic Compound (VOC) Content of Coatings and Inks (Effective 11/29/1994)

Appendix C: Alternative Compliance Methods for Surface Coating (Effective 11/29/1994)

Appendix D: Emission Capture and Destruction or Removal Efficiency and Monitoring Requirements (Effective 11/29/1994)

Method 30: Criteria for and Verification of a Permanent or Temporary Total Enclosure (Effective 11/29/1994)

Method 30A: Volatile Organic Compounds Content in Liquid Input Stream (Effective 11/29/1994)

Method 30B: Volatile Organic Compounds Emissions in Captured Stream (Effective 11/29/1994)

Method 30C: Volatile Organic Compounds Emissions in Captured Stream (Dilution Technique) (Effective 11/29/1994)

Method 30D: Volatile Organic Compounds Emissions in Fugitive Stream from Temporary Total Enclosure (Effective 11/29/1994)

Method 30E: Volatile Organic Compounds Emissions in Fugitive Stream from Building Enclosure (Effective 11/29/1994)

Appendix E: Determining the Destruction or Removal Efficiency of a Control Device (Effective 11/29/1994)

Appendix F: Leak Detection Methods for Volatile Organic Compounds (VOCs) (Effective 11/29/1994)

Appendix G: Performance Specifications for Continuous Emissions Monitoring of Total Hydrocarbons (Effective 11/29/1994)

Appendix H: Quality Control Procedures for Continuous Emission Monitoring Systems (CEMS) (Effective 11/29/1994)

Appendix I: Method to Determine Length of Rolling Period for Liquid/Liquid Material Balance (Effective 11/29/1994)

Appendix K: Emissions Estimation Methodologies (Effective 11/29/1994)

Appendix L: Method To Determine Total Organic Carbon for Offset Lithographic Solutions (Effective 11/29/1994)

Appendix M: Test Method for Determining the Performance of Alternative Cleaning Fluids (Effective 11/29/1994)

7 DE Admin. Code 1125: Requirements for Preconstruction Review

Section 1.0: General Provisions (Effective 08/11/2005)

Section 2.0: Emission Offset Provisions (EOP) (Effective 08/11/2005)

Section 3.0: Prevention of Significant Deterioration of Air Quality (Effective 08/11/2005)

Section 4.0: Minor New Source Review (MNSR) (Effective 08/11/2005)

7 DE Admin. Code 1127: Stack Heights

Section 1.0: General Provisions (Effective 07/06/1982)

Section 2.0: Definitions Specific to this Regulation (Effective 12/07/1988)

Section 3.0: Requirements for Existing and New Sources (Effective 02/18/1987)

Section 4.0: Public Notification (Effective 02/18/1987)

7 DE Admin. Code 1129: Emissions From Incineration of Infectious Waste

Section 1.0: General Provisions (10/13/1989)

Section 2.0: Exemptions (Effective 10/13/1989)

Section 3.0: Permit Requirements (Effective 10/13/1989)

Section 4.0: Sections of Treatment and Disposal (Effective 10/13/1989)

Section 5.0: Recordkeeping and Reporting Requirements (Effective 10/13/1989)

Section 6.0: Evidence of Effectiveness of Treatment (Effective 10/13/1989)

Section 7.0: Incineration (Effective 10/13/1989)

7 DE Admin. Code 1130: Title V State Operating Permit Program

Section 1.0: Program Overview (Effective 11/15/1993)

Section 2.0: Definitions (Effective 11/15/1993)

Section 3.0: Applicability (Effective 11/15/1993)

Section 5.0: Permit Applications (Effective 11/15/1993)

Section 6.0: Permit Contents (Effective 12/11/2000)

Section 7.0: Permit Issuance, Renewal, Reopening, and Revisions (Effective 12/11/2000)

Section 8.0: Permit Review by EPA and Affected States (Effective 11/15/1993)

Section 9.0: Permit Fees (Effective 11/15/1993)

Appendix A: Insignificant Activities (Effective 11/15/1993)

7 DE Admin. Code 1132: Transportation Conformity

Section 1.0: Purpose (Effective 11/11/2007)

Section 2.0: Definitions (Effective 11/11/2007)

Section 3.0: Consultation (Effective 11/11/2007)

Section 4.0: Written Commitments for Control and Mitigation Measures (Effective 11/11/2007)

7 DE Admin Code 1134: Emission Banking and Trading Program

Section 1.0: Program Overview (Effective 10/06/1997)

Section 2.0: Definitions (Effective 10/06/1997)

Section 3.0: Applicability (Effective 10/06/1997)

Section 4.0: Generating an Emission Reduction (Effective 10/06/1997)

Section 5.0: Application for Certification of an Emission Reduction as an ERC (Effective 10/06/1997)

Section 6.0: Source Baseline (Effective 10/06/1997)

Section 7.0: Post-Reduction Emission Rate (Effective 10/06/1997)

Section 8.0: Certification of an Emission Reduction (Effective 10/06/1997)

Section 9.0: Trading and Use of ERCs (Effective 10/06/1997)

Section 10.0: Record Keeping Requirements (Effective 10/06/1997)

Section 11.0: ERC Banking System (Effective 10/06/1997)

Section 12.0: Fees (Effective 10/06/1997)

Section 13.0: Enforcement (Effective 10/06/1997)

Section 14.0: Program Evaluation and Individual Audits (Effective 10/06/1997)

7 DE Admin. Code 1135: Conformity of General Federal Actions to the State Implementation Plans

Section 1.0: Purpose (Effective 08/14/1996)

Section 2.0: Definitions (Effective 08/14/1996)

Section 3.0: Applicability (Effective 08/14/1996)

Section 4.0: Conformity Analysis (Effective 08/14/1996)

Section 5.0: Reporting Requirements (Effective 08/14/1996)

Section 6.0: Public Participation and Consultation (Effective 08/14/1996)

Section 7.0: Frequency of Conformity Determinations (Effective 08/14/1996)

Section 8.0: Criteria for Determining Conformity of General Federal Actions (Effective 08/14/1996)

Section 9.0: Procedures for Conformity Determinations of General Federal Actions (Effective 08/14/1996)

Section 10.0: Mitigation of Airy Quality Impacts (Effective 08/14/1996)

Section 11.0: Savings Provisions (Effective 08/14/1996)

7 DE Admin. Code 1139: Nitrogen Oxides (NOX) Budget Trading Program

Section 1.0: Purpose (Effective 12/11/2000)

Section 2.0: Emission Limitation (Effective 12/11/2000)

Section 3.0: Applicability (Effective 12/11/2000)

Section 4.0: Definitions (Effective 12/11/2000)

Section 5.0: General Provisions (Effective 12/11/2000)

Section 6.0: NOX Authorized Account Representative for NOX Budget Sources (Effective 12/11/2000)

Section 7.0: Permits (Effective 12/11/2000)

Section 8.0: Monitoring and Reporting (Effective 12/11/2000)

Section 9.0: NATS (Effective 12/11/2000)

Section 10.0: NOX Allowance Transfers (Effective 12/11/2000)

Section 11.0: Compliance Certification (Effective 12/11/2000)

Section 12.0: End-of-Season Reconciliation (Effective 12/11/2000)

Section 13.0: Failure to Meet Compliance Requirements (Effective 12/11/2000)

Section 14.0: Individual Units Opt-Ins (Effective 12/11/2000)

Section 15.0: General Accounts (Effective 12/11/2000)

Appendix A: Allowance Allocations to NOX Budget Units under 3.1.1.1 and 3.1.1.2 of DE Admin. Code 1139 (Effective 02/11/2000)

Appendix B: 7 DE Admin Code 1137—7 DE Admin. Code 1139 Program Transition (Effective 02/11/2000)

7 DE Admin. Code 1140: Delaware's National Low Emission Vehicle (NLEV) Regulation

\\

Section 1.0: Applicability (Effective 09/11/1999)

Section 2.0: Definitions (Effective 09/11/1999)

Section 3.0: Program Participation (Effective 09/11/1999)

7 DE Admin. Code 1142: Specific Emission Control Requirements

Section 1.0: Control of NOX Emissions from Industrial Boilers (Effective 12/12/2001)

7 DE Admin. Code 1143: Heavy Duty Diesel Engine Standards

Section 1.0: On Road Heavy Duty Diesel Requirements for Model Years 2005 and 2006 (Effective 02/11/2005)

Section 2.0: On Road Heavy Duty Diesel Requirements for Model Year 2007 and Later (Effective 02/11/2005)

7 DE Admin. Code 1144: Control of Stationary Generator Emissions ³

³ All sections for 7 DE Admin. Code 1144: Control of Stationary Generator Emissions shall be incorporated by reference into 40 CFR part 55 except for all references to Carbon Dioxide (CO2).

Section 1.0: General (Effective 01/11/2006)

Section 2.0: Definitions (Effective 01/11/2006)

Section 3.0: Emissions (Effective 01/11/2006)

Section 4.0: Operating Requirements (Effective 01/11/2006)

Section 5.0: Fuel Requirements (Effective 01/11/2006)

Section 7.0: Emissions Certification, Compliance, and Enforcement (Effective 01/11/2006)

Section 8.0: Credit for Concurrent Emissions Reductions (Effective 01/11/2006)

Section 9.0: DVFA Member Companies (Effective 01/11/12006)

7 DE Admin. Code 1145: Excessive Idling of Heavy Duty Vehicles

Section 1.0: Applicability (Effective 04/11/2005)

Section 2.0: Definitions (Effective 04/11/2005)

Section 3.0: Severability (Effective 04/11/2005)

Section 4.0: Operational Requirements for Heavy Duty Motor Vehicles (Effective 04/11/2005)

Section 5.0: Exemptions (Effective 04/11/2005)

Section 6.0: Enforcement and Penalty (Effective 04/11/2005)

7 DE Admin. Code 1146: Electric Generating Unit (EGU) Multi-Pollutant Regulation

Section 1.0: Preamble (Effective 12/11/2006)

Section 2.0: Applicability (Effective 12/11/2006)

Section 3.0: Definitions (Effective 12/11/2006)

Section 4.0: NOX Emissions Limitations (Effective 12/11/2006)

Section 5.0: SO2 Emissions Limitations (Effective 12/11/2006)

Section 6.0: Mercury Emissions Limitations (Effective 12/11/2006)

Section 7.0: Record Keeping and Reporting (Effective 12/11/2006)

Section 8.0: Compliance Plan (Effective 12/11/2006)

Section 9.0: Penalties (Effective 12/11/2006)

7 DE Admin. Code 1148: Control of Stationary Combustion Turbine Electric Generating Unit Emissions

Section 1.0: Purpose (Effective 07/11/2007)

Section 2.0: Applicability (Effective 07/11/2007)

Section 3.0: Definitions (Effective 07/11/2007)

Section 4.0: NOX Emissions Limitations (Effective 07/11/2007)

Section 5.0: Monitoring and Reporting (Effective 07/11/2007)

Section 6.0: Recordkeeping (Effective 07/11/2007)

Section 7.0: Penalties (Effective 07/11/2007)

(2) [Reserved]

* * * * *

[FR Doc. E9-9786 Filed 4-28-09; 8:45 am]

BILLING CODE 6560-50-P